DEPARTMENT OF COMMERCE

Foreign-Trade Zones Board

Foreign-Trade Zone 257—Imperial County, CA; Site Renumbering Notice

Foreign-Trade Zone 257 was approved by the Foreign-Trade Zones Board on October 9, 2003 (Board Order 1286, 67 FR 72914, 12/09/2002). FTZ 257 currently consists of six “sites” totaling 3,897 acres within Imperial County and the city limits of Brawley, Calexico, Calipatria and El Centro, California. The current update does not alter the physical boundaries that have previously been approved, but instead involves an administrative renumbering that separates certain non-contiguous sites for record-keeping purposes.

Under this revision, the site list for FTZ 257 will be as follows: Site 1: (597 acres)—Gateway of the Americas Industrial Park, State Route 7 and State Highway 98, Imperial County (formerly Site 1a); Site 2: (32 acres)—Airport Industrial Park, Jones Drive and Best Road with adjacent parcel on Duarte Street, Brawley (formerly Site 2a); Site 3: (242.62 acres)—Calexico International Airport, 254-256 E. Anza Road and Second Street and Airport Road (includes adjacent River parcels 12 and 13 from former Site 3b), Calexico (formerly Site 3a); Site 4: (104 acres)—Calipatria Airport Industrial Park and adjacent parcel, Main Street, International and Lyerly Roads, Calipatria; Site 5: (531 acres)—within the El Centro Community Redevelopment Agency project area (Danenberg Road, Dogwood Road and I-8), El Centro; Site 6: (3.46 acres)—Coppel Corporation, 503 Sarconi Road, Calexico; Site 7: (43 acres)—Imperial County Airport, State Highway 86 and Aten Road (formerly Site 1b), Imperial County; Site 8: (115 acres)—Drewry Warehousing complex, 340 West Ralph Road, Imperial County (formerly Site 1c); Site 9: (45 acres)—Luckey Ranch Industrial Park, Best Road and Shank Road, Brawley (formerly Site 2b); Site 10: (78.11 acres)—Desert Real Estate parcels, Cole Road and Sunset Boulevard, Calexico (formerly part of Site 3b); Site 11: (35.47 acres)—Portico Industrial Park, Cole Road and Enterprise Boulevard, Calexico (formerly part of Site 3b); Site 12: (59.49 acres)—Kloke Tract, Cole Road, Portico Boulevard and Weakley Road, Calexico (formerly part of Site 3b); Site 13: (57.45 acres)—Las Palmas/Estrada Business Park, Estrada Boulevard and Arguelles Street, Calexico (formerly part of Site 3b); and, Site 14: (7.54 acres)—Calexico Industrial Park, 190 East Cole Road and 2360, 2420, 2430, 4360 M.L. King Avenue, Calexico (formerly part of Site 3b).

For further information, contact Christopher Kemp at Christopher.Kemp@trade.gov, or (202) 482-0862.

Dated: April 11, 2012.
Andrew McGilvray,
Executive Secretary.

[FR Doc. 2012-9236 Filed 4-16-12; 8:45 am]

BILLING CODE 3510-DS-P